OFFICE OF THE UNITED STATES TRADE REPRESENTATIVE

Determination Under the African Growth and Opportunity Act

AGENCY: Office of the United States Trade Representative.

ACTION: Notice.

SUMMARY: The United States Trade Representative has determined that Mauritius has adopted an effective visa system and related procedures to prevent unlawful transshipment and the use of counterfeit documents in connection with shipments of textile and apparel articles and has implemented and follows, or is making substantial progress toward implementing and following, the customs procedures required by the African Growth and Opportunity Act. Therefore, imports of eligible products from Mauritius qualify for the enhanced trade benefits provided under the AGOA.

EFFECTIVE DATE: January 19, 2001.

FOR FURTHER INFORMATION CONTACT: Bethany Schwartz, Director for African Affairs, Office of the United States Trade Representative, (202) 395-9514.

SUPPLEMENTARY INFORMATION: The African Growth and Opportunity Act (Title I of the Trade and Development Act of 2000, Public Law 106-200) (AGOA) provides preferential tariff treatment for imports of certain textile and apparel products of beneficiary sub-Saharan African countries. The textile and apparel trade benefits provided by the AGOA are available to imports of eligible products from countries that the President designates as “beneficiary sub-Saharan African countries,” provided that these countries (1) have adopted an effective visa system and related procedures to prevent unlawful transshipment and the use of counterfeit documents, and (2) have implemented and follow, or are making substantial progress toward implementing and following, certain customs procedures that assist the Customs Service in verifying the origin of the products.

In Proclamation 7350 of October 2, 2000, the President designated 34 countries as “beneficiary sub-Saharan African countries.” Proclamation 7350 delegated to the United States Trade Representative (USTR) the authority to determine whether these countries have met the two requirements described above. The President directed the USTR to announce any such determinations in the Federal Register and to implement them through modifications of the Harmonized Tariff Schedule of the United States (HTS). Based on actions that Mauritius has taken, I have determined that Mauritius has satisfied these two requirements.

The AGOA also directs the President to eliminate the existing quotas on textile and apparel articles imported into the United States from Mauritius within 30 days after Mauritius adopts an effective visa system to prevent unlawful transshipment of textile and apparel articles and the use of counterfeit documents relating to the importation of such articles into the United States. Proclamation 7350 delegated this responsibility to the USTR.

Accordingly, pursuant to the authority vested in the USTR by Proclamation 7350, the HTS is modified as provided in Proclamation 7350 and as specified in the Annex to this notice, effective with respect to articles entered, or withdrawn from warehouse, for consumption on or after January 19, 2001. Importers claiming preferential tariff treatment under the AGOA for entries of textile and apparel articles should ensure that those entries meet the applicable visa requirements. (The visa requirements are described in a separate notice that is being published in the Federal Register.) By this notice, I direct the Customs Service to eliminate the existing quotas on textile and apparel articles imported into the United States from Mauritius within 30 days of the effective date of this notice.

Charlene Barshefsky,
United States Trade Representative.

Annex

Pursuant to the authority provided in Proclamation 7350, the HTS is modified as follows:

1. The text of U.S. note 7 to subchapter II of chapter 98, as established by the annex to such Proclamation, is modified by inserting in alphabetical sequence “Mauritius” in the list of countries.

2. U.S. note 1 to subchapter XIX of chapter 98 of the HTS, as established by the annex to such Proclamation, is modified by inserting in alphabetical sequence “Mauritius” in the list of countries.

[FR Doc. 01-2602 Filed 1-30-01; 8:45 am]

BILLING CODE 3190-01-U